DEPARTMENT OF TRANSPORTATION

Federal Aviation Administration

14 CFR Part 71

[Docket FAA 2006-25671; Airspace Docket 06-AWP-15]

Establishment of Class D Airspace; Castle Airport, Atwater, CA

AGENCY: Federal Aviation Administration (FAA), DOT.

ACTION: Final rule.

SUMMARY: This action establishes Class D airspace at Castle Airport, Atwater, CA. A contract Airport Traffic Control Tower (ATCT) is being established at Castle Airport, Atwater, CA, which will meet criteria for Class D airspace. Class D airspace is required when the ATCT is open, and to contain and protect Standard Instrument Approach Procedures (SIAPs) and other Instrument Flight Rules (IFR) operations at the airport. This action would establish Class D airspace extending upward from the surface to 2,500 feet Mean Sea Level (MSL) within a 4.5 nautical mile radius of the airport.

EFFECTIVE DATE: 0901 UTC, January 18, 2007. The Director of the Federal Register approves this incorporation by reference action under title 1, Code of Federal Regulations, part 51, subject to the annual revision of FAA Order 7400.9 and publication of conforming amendments.

FOR FURTHER INFORMATION CONTACT: Larry Tonish, System Support Specialists, Federal Aviation Administration, Western Service Area, 15000 Aviation Boulevard, Lawndale, CA 90261; telephone (310) 725-6539.

SUPPLEMENTARY INFORMATION:

History

On November 13, 2006, the FAA proposed to amend Title 14 Code of Federal Regulations part 71 (CFR part 71) to establish Class D airspace at Castle Airport, Atwater, CA, (71FR 66144). An ATCT is being contracted at Castle Airport, and Class D airspace is required during the hours the ATCT is open. Class D controlled airspace is necessary for the safety of aircraft executing SIAPs and other IFR operations at Castle Airport. Class D airspace will be effective during specified dates and times established in advance by a Notice to Airmen. The effective date and time will, thereafter, be published in the Airport/Facility Directory.

Interested parties were invited to participate in this rule making proceeding by submitting written comments on the proposal to the FAA. No comments were received. Class D airspace designations for airspace areas extending upward from the surface of the earth are published in Paragraph 5000 of FAA Order 7400.9P, dated September 1, 2006, and effective September 15, 2006, which is incorporated by reference in 14 CFR 71.1. The Class D airspace designations listed in this document would be published subsequently in the Order.

The Rule

This amendment to 14 CFR part 71 establishes Class D airspace at Castle Airport, Atwater, CA. An Airport Traffic Tower (ATCT) is being established at Castle Airport, Atwater, CA, which will meet criteria for Class D airspace.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 5000; Class D Airspace area extending upward from the surface of the earth.

* * * * *

AWP CA D Castle Airport, Atwater, CA [NEW]

Castle Airport, Atwater, CA

(Lat. 37°22′50″ N, long. 120°34′05″ W)

That airspace extending upward from the surface to 2,500 feet MSL beginning at lat. 37°18′34″ N., long. 120°35′54″ W. and extending clockwise around the 4.5 nautical mile radius of the Castle Airport to lat. 37°21′06″ N., long. 120°28′53″, thence to the point of beginning. This Class D airspace is effective during the specific days and times established in advance by a Notice to Airmen. The effective days and times will thereafter be continuously published in the Airport/Facility Directory.

* * * * *

Issued in Los Angeles, California on December 11, 2006.
Leonard Mobley,
Acting Area Director, Western Terminal Operations, Western Terminal Area Office.

[FR Doc. 06-9694 Filed 12-13-06; 8:45 am]

BILLING CODE 4910-13-M